DEPARTMENT OF STATE

22 CFR Part 126

[Public Notice: 12859]

RIN 1400-AG16

International Traffic in Arms Regulations: Changes to Section 126.1

AGENCY: Department of State.

ACTION: Final rule.

SUMMARY: The Department of State is amending the International Traffic in Arms Regulations (ITAR) in § 126.1 to reflect a determination made by the Secretary of State.

DATES: This rule is effective on November 7, 2025.

FOR FURTHER INFORMATION CONTACT: Mr. Ryan Haddad, Foreign Affairs Officer, Office of Defense Trade Controls Policy, U.S. Department of State, telephone: (771) 204-7878; email DDTCCustomerService@state.gov. ATTN: Regulatory Change, ITAR Section 126.1 Cambodia.

SUPPLEMENTARY INFORMATION: Based on Cambodia's diligent pursuit of peace and security, including through renewed engagement with the United States on defense cooperation and combating transnational crime, the Secretary of State made a determination to lift the embargo on defense trade with Cambodia. Pursuant to this determination, the Department amends the International Traffic in Arms Regulations (ITAR) at § 126.1 to remove the reference to Cambodia in table 2 to paragraph (d)(2) and to remove the defense trade policy for Cambodia previously found in paragraph (o).

As a result of this change, requests for authorization for transfers of defense articles and defense services to Cambodia will be adjudicated on a case-by-case basis and exemptions that are unavailable for transfers to countries listed in ITAR § 126.1 are now available for transfers to Cambodia, subject to the relevant criteria in the exemption being satisfied.

Regulatory Analysis and Notices

Administrative Procedure Act

This rulemaking is exempt from the rulemaking requirements of section 553 of the Administrative Procedure Act (APA) pursuant to 5 U.S.C. 553(a)(1) as a military or foreign affairs function of the United States. Since the Department is of the opinion that this rule is exempt from the rulemaking provisions of the APA, it is the view of the Department that the provisions of section 553 do not apply to this rulemaking and the Department is publishing this rule without a delay in its effective date or a request for public comment.

Regulatory Flexibility Act

Since this rule is exempt from the notice-and-comment rulemaking provisions of 5 U.S.C. 553, the rule does not require analysis under the Regulatory Flexibility Act.

Unfunded Mandates Reform Act of 1995

This rulemaking does not involve a mandate that will result in the expenditure by State, local, and tribal governments, in the aggregate or by the private sector, of $100 million or more in any year, and it will not significantly or uniquely affect small governments. Therefore, no actions are deemed necessary under the provisions of the Unfunded Mandates Reform Act of 1995.

Congressional Review Act

The Department assesses that this rulemaking is not a major rule within the criteria of 5 U.S.C. 804. This rule will not increase costs or prices and should have no adverse effects on competition, employment, investment, productivity, innovation, or the ability of U.S.-based enterprises to compete with foreign-based enterprises in domestic and export markets. The Department does not expect this change to have an annual effect on the economy of $100 million or more.

Executive Orders 12372 and 13132

This rulemaking does not have sufficient federalism implications to require consultations or warrant the preparation of a federalism summary impact statement. The regulations implementing Executive Order 12372 regarding intergovernmental consultation on Federal programs and activities do not apply to this rulemaking.

Executive Orders 12866, 13563, and 14192

Executive Order 12866, as amended by Executive Orders 13563, directs agencies to assess all costs and benefits of available regulatory alternatives and, if regulation is necessary, to select regulatory approaches that maximize net benefits (including potential economic, environmental, public health, and safety effects). As a result of this change, certain restrictions on defense trade activities with Cambodia will be removed. Because the scope of this rule removes regulatory requirements and obligations, the Department believes this action will result in benefits for regulated entities that were previously unable to conduct defense trade with Cambodia. The Department also believes any costs resulting from this rule will be minimal. This rule is exempt from the requirements of Executive Order 14192 because it relates to a foreign affairs function of the United States. This rule has been designated a significant regulatory action by the Office of Information and Regulatory Affairs under Executive Order 12866.

Executive Order 12988

The Department of State has reviewed this rulemaking in light of Executive Order 12988 to eliminate ambiguity, minimize litigation, establish clear legal standards, and reduce burden.

Executive Order 13175

The Department of State determined that this rulemaking will not have tribal implications, will not impose substantial direct compliance costs on Indian tribal governments, and will not preempt tribal law. Accordingly, Executive Order 13175 does not apply to this rulemaking.

Paperwork Reduction Act

This rulemaking does not impose or revise any information collections subject to 44 U.S.C. Chapter 35.

List of Subjects in 22 CFR Part 126

Arms and munitions, Exports, Reporting and recordkeeping requirements, Technical assistance.

For the reasons stated in the preamble, the Department amends 22 CFR part 126 as follows:

PART 126—GENERAL POLICIES AND PROVISIONS

1. The authority citation for part 126 continues to read as follows:

Authority: 22 U.S.C. 287c, 2651a, 2752, 2753, 2776, 2778, 2779, 2779a, 2780, 2791, 2797, 10423; sec. 1225, Pub. L. 108-375, 118 Stat. 2091; sec. 7045, Pub. L. 112-74, 125 Stat. 1232; sec. 1250A, Pub. L 116-92, 133 Stat. 1665; sec. 205, Pub. L. 116-94, 133 Stat. 3052; and E.O. 13637, 78 FR 16129, 3 CFR, 2013 Comp., p. 223.

2. Amend § 126.1 by:

a. Revising table 2 to paragraph (d)(2); and

b. Removing and reserving paragraph (o).

The revision reads as follows:

§ 126.1 Prohibited exports, imports, and sales to or from certain countries.

* * * * *

(d) * * *

(2) * * *

Table 2 to Paragraph (d)(2)
Country | Country-specific paragraph location
Afghanistan | See also paragraph (g) of this section.
Central African Republic | See also paragraph (u) of this section.
Cyprus | See also paragraph (r) of this section.
Democratic Republic of the Congo | See also paragraph (i) of this section.
Eritrea | See also paragraph (h) of this section.
Ethiopia | See also paragraph (n) of this section.
Haiti | See also paragraph (j) of this section.
Iraq | See also paragraph (f) of this section.
Lebanon | See also paragraph (t) of this section.
Libya | See also paragraph (k) of this section.
Nicaragua | See also paragraph (p) of this section.
Russia | See also paragraph (l) of this section.
Somalia | See also paragraph (m) of this section.
South Sudan | See also paragraph (w) of this section.
Sudan | See also paragraph (v) of this section.
Zimbabwe | See also paragraph (s) of this section.

* * * * *

Thomas G. DiNanno,
Under Secretary, Arms Control and International Security, Department of State.

[FR Doc. 2025-19822 Filed 11-6-25; 8:45 am]

BILLING CODE 4710-25-P